DEPARTMENT OF TRANSPORTATION

Federal Highway Administration

Notice of Final Federal Agency Actions on Transportation Project in Nevada

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to the Pyramid Way and McCarran Boulevard Intersection Improvement Project located in Sparks, Washoe County, Nevada. These actions grant licenses, permits, and approval of the project.

DATES: By this notice, FHWA is advising the public of final agency actions subject to 23 U.S.C. 139(l)(1). A claim seeking judicial review of the Federal agency actions on the listed highway project will be barred unless the claim is filed on or before June 30, 2014. If this date falls on a Saturday, Sunday, or legal holiday, parties are advised to file their claim no later than the business day preceding this date. If the Federal law that authorizes judicial review of a claim provides a time period of less than 150 days for filing such claim, then that shorter time period still applies.

FOR FURTHER INFORMATION CONTACT: For FHWA: Mr. Abdelmoez Abdalla, Environmental Program Manager, Federal Highway Administration, 705 North Plaza Street, Carson City, Nevada 89701-0602; telephone: (775) 687-1231; email: abdelmoez.abdalla@dot.gov. The FHWA Nevada Division Office's regular business hours are 7:30 a.m. to 4 p.m. (Pacific Standard Time). For the Nevada Department of Transportation (NDOT): Mr. Steve M. Cooke, P.E., Chief, Environmental Services Division, Nevada Department of Transportation, 1263 South Stewart Street, Carson City, Nevada 89712; telephone: (775) 888-7013; email: scooke@dot.state.nv.us. The NDOT office's regular business hours are 8 a.m. to 5 p.m.(Pacific Standard Time).

SUPPLEMENTARY INFORMATION: Notice is hereby given that the FHWA and other Federal agencies have taken final agency actions related to the Pyramid Way and McCarran Boulevard Intersection Improvement Project located in Sparks, Washoe County, Nevada. FHWA, in cooperation with the Nevada Department of Transportation (NDOT), prepared a Draft Environmental Impact Statement (EIS) (FHWA-NV-EIS-13-01-D) and Final EIS (FHWA-NV-EIS-13-01-F) for proposed improvements to the Pyramid Way and McCarran Boulevard Intersection in Sparks, Nevada. The improvements include widening Pyramid Way from two lanes to three lanes in each direction (north-south) from a reconfigured Queen Way on the north to Tyler Way on the south. McCarran Boulevard would remain two lanes in each direction (east-west) but with additional turning lanes.

The actions by the Federal agencies, and the laws under which such actions were taken, are described in the combined Final EIS (FHWA-NV-EIS-13-01-F) and Record of Decision (ROD) issued on November 26, 2013, and in other documents in the FHWA and NDOT project record. These documents are available by contacting FHWA or NDOT at the addresses provided above. The combined Final EIS and ROD can also be downloaded electronically from the project Web site at http://www.pyramidmccarran.com/, or viewed at area public libraries. This notice applies to all Federal agency decisions on the project as of the issuance date of this notice and all laws under which such actions were taken, including but not limited to: General: National Environmental Policy Act (NEPA) [42 U.S.C. 4321-4351]; Federal-Aid Highway Act (FAHA) [23 U.S.C. 109 and 23 U.S.C. 128]; Public Hearing [23 U.S.C. 128].

1. Air: Clean Air Act [42 U.S.C. 7401-7671(q)] (Transportation Conformity).

2. Noise: Procedures for Abatement of Highway Traffic Noise and Construction Noise [23 U.S.C. 109(h), 109(i); 42 U.S.C. 4331, 4332; sec. 339(b), Pub. L. 104-59, 109 Stat. 568, 605; 49 CFR 1.48(b)].

3. Land: Section 4(f) of the Department of Transportation Act of 1966 [23 U.S.C. 138 and 49 U.S.C. 303] and Section 6(f) of the Land and Water Conservation Act as amended [16 U.S.C. 4601].

4. Historic and Cultural Resources: Section 106 of the National Historic Preservation Act of 1966, as amended [16 U.S.C. 470f]; Archeological and Historic Preservation Act [16 U.S.C. 469-469(c)].

5. Wildlife: Endangered Species Act [16 U.S.C. 1531-1544 and Section 1536]; Fish and Wildlife Coordination Act [16 U.S.C. 661-667 (d)]; Migratory Bird Treaty Act [16 U.S.C. 703-712].

6. Social and Economic: Civil Rights Act of 1964 [42 U.S.C. 2000 (d)-2000 (d)(1)].

7. Executive Orders: E.O. 11990, Protection of Wetlands; E.O. 11988, Floodplain Management; E.O. 12898, Federal Actions to Address Environmental Justice in Minority Populations and Low Income Populations; E.O. 11593, Protection and Enhancement of Cultural Resources; E.O. 13287, Preserve America; E.O. 11514, Protection and Enhancement of Environmental Quality; E. 0. 13112, Invasive Species.

(Catalog of Federal Domestic Assistance Program No. 20.205, Highway Research, Planning and Construction. The regulations implementing Executive Order 12372 regarding intergovernmental consultation on Federal programs and activities apply to this program.)

Authority: 23 U.S.C. 139(l)(1), as amended by the Moving Ahead for Progress Act, Pub. L. 112-141, section 1308, 126 Stat. 405 (2012).

Issued on: January 15, 2014.
Susan Klekar,
Division Administrator, Carson City, Nevada.

[FR Doc. 2014-01986 Filed 1-30-14; 8:45 am]

BILLING CODE 4910-RY-P